DEPARTMENT OF HEALTH AND HUMAN SERVICES

Centers for Disease Control and Prevention

[60Day-14-0889]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to CDC LeRoy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Using Traditional Foods and Sustainable Ecological Approaches for Health Promotion and Diabetes Prevention in American Indian/Alaska Native Communities (OMB No. 0920-0889, exp. 6/30/2014)—Revision—National Center for Chronic Disease Prevention and Health Promotion (NCCDPHP), Centers for Disease Control and Prevention (CDC).

Background and Brief Description

Type 2 Diabetes was rare among American Indians until the 1950s. Since that time, diabetes has become one of the most common and serious illnesses among American Indians and Alaska Natives (AI/AN). However, dietary management and physical activity can help to prevent or control Type 2 diabetes.

In 2008, the CDC's Native Diabetes Wellness Program (NDWP), in consultation with American Indian/Alaska Native (AI/AN) tribal elders, issued a funding opportunity announcement (FOA) entitled, “Using Traditional Foods and Sustainable Ecological Approaches for Health Promotion and Diabetes Prevention in American Indian/Alaska Native Communities.” The Traditional Foods program was designed to build on what is known about traditional ways in order to inform culturally relevant, contemporary approaches to diabetes prevention for AI/AN communities. The program supports activities that enhance or re-introduce indigenous foods and practices drawn from each grantee's landscape, history, and culture. Example activities include the cultivation of community gardens, organization of local farmers' markets, and the dissemination of culturally appropriate health messages through storytelling, audio and video recordings, and printed materials. In addition, the program promotes physical activity initiatives, provides social support for healthy lifestyles, and supports collaboration with other agencies and programs. Seventeen (17) tribal organizations received cooperative agreement funding under the initial FOA. Sixteen tribal organizations applied for a one-year extension that ends September 30, 2014.

CDC currently collects information from awardees about the activities supported with Traditional Foods funding. Twice per year, each awardee submits a shared data elements (SDE) report to CDC through a Web-based interface. The SDE are organized in three domains: Traditional Local Healthy Foods, Physical Activity, and Social Support for Healthy Lifestyle Change and Maintenance. Reports are submitted to CDC in the spring and fall. The spring 2014 report will be submitted to CDC under the current OMB clearance (OMB No. 0920-0889, exp. 6/30/2014).

CDC plans to request OMB approval of a six-month extension of the Traditional Foods information collection, through approximately December 31, 2014. The extension will enable CDC to receive a final report on activities conducted during late spring, summer, and early fall of 2014. Because of the variety of food- and lifestyle-related programs that take place in these seasons, CDC wants to ensure complete and accurate reporting of awardee activities conducted the last 5-6 months of cooperative agreement funding.

There are no proposed changes to the data collection instrument, data collection methodology, or the estimated burden per response. Changes to be implemented in this Revision request include: (1) A reduction in the number of respondents, from 17 to 16, (2) a change in the frequency of reporting (only one SDE report will be received during the six-month extension period), and (3) discontinuation of the one-time retrospective data collection that was part of the initial three-year clearance request.

CDC will continue to use the SDE reports to compile a systematic, quantifiable inventory of activities, products, and outcomes associated with the Traditional Foods program. The SDE also allow CDC to analyze aggregate data for improved technical assistance and overall program improvement, reporting, and identification of outcomes; allow CDC and grantees to create a comprehensive inventory/resource library of diabetes primary prevention ideas and approaches for AI/AN communities and identify emerging best practices; and improve dissemination of success stories. The SDE supplements the narrative progress reports that grantees submit to CDC in conjunction with the annual continuation application for funding. Although these reports provide important contextual information and are useful for local program monitoring, they do not support the production of statistical reports that are needed to fully describe the Traditional Foods program and to respond to various administrative inquiries.

Respondents will be 16 Tribes and Tribal organizations that receive funding through the Traditional Foods program. The SDE will continue to be submitted to CDC using Survey Monkey, an electronic Web-based interface. The estimated burden per response is two hours. Each grantee will receive a personalized advance notification letter, followed by an email with a link to the Survey Monkey site.

Participation in this information collection is required for Traditional Foods program awardees. There are no costs to respondents other than their time.

Estimated Annualized Burden Hours
Type of respondents | Form name | Number of respondents | Number of responses per respondent | Average burden per response (in hrs) | Total burden (in hrs)
AI/AN Tribal Grantees | Traditional Foods Shared Data Elements | 16 | 1 | 2 | 32

Leroy A. Richardson,
Chief, Information Collection Review Office, Office of Scientific Integrity, Office of the Associate Director for Science, Office of the Director, Centers for Disease Control and Prevention.

[FR Doc. 2014-02510 Filed 2-5-14; 8:45 am]

BILLING CODE 4163-18-P